OFFICE OF PERSONNEL MANAGEMENT

Submission for OMB Review; Comment Request for Revised Information Collection: OPM Form 1300, Presidential Management Intern Program Application

AGENCY: Office of Personnel Management.

ACTION: Notice.

SUMMARY: In accordance with the Paperwork Reduction Act of 1995 (Pub. L. 104-13, May 22, 1995), this notice announces that the Office of Personnel Management (OPM) submitted a request to the Office of Management and Budget (OMB) for review of a revised information collection for OPM Form 1300, Presidential Management Intern Program Application. Approval of the Presidential Management Intern Program (PMI) application is necessary to facilitate the timely nomination, selection and placement of Presidential Management Intern finalists in Federal agencies.

The 60-day Federal Register Notice was published on June 24, 2002 (FR Doc. 02-15805) to request comments. No comments were received. The following changes have been made to the application: (1) A cover page was added to provide application instructions, updated Privacy Act Statement and updated Public Burden Statement; (2) removed the unique control number that was pre-printed within the footer of the form that is scanned in along with the applicant's information, this has been replaced with the applicant's Social Security Number on each page; (3) added an additional occupational preference (area of work interest) to include “Transportation'; and (4) minor edits and spacing.

We estimate 2000 applications will be received and processed in the 2002/2003 open season for PMI applications. Each application takes approximately 2 hours to complete (one hour for applicants (nominees) and one hour for nominating school official(s)). The annual estimated burden is 4,000 hours.

For copies of this proposal, contact Mary Beth Smith-Toomey at (202) 606-8358, fax (202) 418-3251 or e-mail to mbtoomey@opm.gov. Please include your complete mailing address with your request.

DATES: Comments on this proposal should be received within thirty (30) calendar days from the date of this publication.

ADDRESSES: Send or deliver comments to: Rob Timmins, U.S. Office of Personnel Management, Employment Service, 1900 E Street, NW., Room 1425, Washington, DC 20415-9820, e-mail: ratimmin@opm.gov and Stuart Shapiro, OPM Desk Officer, Office of Management and Budget, Office of Information and Regulatory Affairs, New Executive Office Building, NW., Room 10235, Washington, DC 20503.

Office of Personnel Management.
Kay Coles James,
Director.

[FR Doc. 02-28812 Filed 11-12-02; 8:45 am]

BILLING CODE 6325-38-P